DEPARTMENT OF THE TREASURY

Submission for OMB Review; Comment Request

November 10, 2010.

The Department of the Treasury will submit the following public information collection requirement to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before December 17, 2010 to be assured of consideration.

Financial Management Service (FMS)

OMB Number: 1510-0059.

Type of Review: Extension without change to a currently approved collection.

Title: Authorization Agreement for Preauthorized Payment.

Form: SF-5510.

Abstract: Preauthorized payment is used by remitters (individuals and corporations) to authorize electronic funds transfers from the bank accounts maintained at financial institutions for government agencies to collect monies.

Respondents: Individuals and households.

Estimated Total Burden Hours: 25,000 hours.

Bureau Clearance Officer: Wesley Powe, Financial Management Service, 3700 East West Highway, Room 144, Hyattsville, MD 20782; (202) 874-8936.

OMB Reviewer: Shagufta Ahmed, Office of Management and Budget, New Executive Office Building, Room 10235, Washington, DC 20503; (202) 395-7873.

Dawn D. Wolfgang,
Treasury PRA Clearance Officer.

[FR Doc. 2010-28970 Filed 11-16-10; 8:45 am]

BILLING CODE 4810-35-P